DEPARTMENT OF TRANSPORTATION

Federal Aviation Administration

Notice of Release and Closure of the Lake Texoma State Airport (F31) at Lake Texoma State Park, Kingston, Oklahoma

AGENCY: Federal Aviation Administration (FAA), DOT.

ACTION: Notice of airport release and permanent closure.

SUMMARY: The FAA approved the release and closure of Lake Texoma State Park Airport at Lake Texoma State Park in Kingston, Oklahoma on July 1, 2025. The FAA received written notice from the Oklahoma Department of Tourism and the Oklahoma Department of Aerospace and Aeronautics (co-sponsors) on July 1, 2024, requesting the airport be removed from the National Plan of Integrated Airport Systems for the purpose of abandoning and closing Lake Texoma State Park Airport. The FAA hereby publishes notice of full release and permanent closure of Lake Texoma State Park Airport.

DATES: Comments must be received on or before September 29, 2025.

ADDRESSES: Comments on this application may be mailed or delivered to the FAA at the following address: Mr. Denson Stasher, Manager, Federal Aviation Administration, Southwest Region, Airports Division, Arkansas/Oklahoma Airports District Office, ASW-630, Fort Worth, Texas 76177.

The permanent closure of the airport is effective as of September 30, 2025.

FOR FURTHER INFORMATION CONTACT: Mr. Olufemi Adeoye, Assistant Manager, Federal Aviation Administration, Arkansas/Oklahoma Airports District Office, 10101 Hillwood Parkway, Fort Worth, Texas 76177, Telephone: (817) 222-5986, Email: olufemi.o.adeoye@faa.gov, Fax: (817) 222-5987.

SUPPLEMENTARY INFORMATION: The FAA received written notice from the Oklahoma Department of Tourism and the Oklahoma Department of Aerospace and Aeronautics (co-sponsors) requesting the permanent closure of Lake Texoma State Park Airport.

The following is a brief overview of the request: The FAA categorized Lake Texoma State Park Airport (F31) as an unclassified, general aviation airport. The airport was not acquired through any federal grants, surplus property conveyances or use of airport revenue. There are five federally obligated airports within a 30-mile radius of F31. The closure will not impact the national system of airports. Any person may inspect the request in person at the FAA office listed above under FOR FURTHER INFORMATION CONTACT.

Ignacio Flores,
Director, Office of Airports Southwest Region.

[FR Doc. 2025-16454 Filed 8-27-25; 8:45 am]

BILLING CODE P